DEPARTMENT OF HEALTH AND HUMAN SERVICES

National Institutes of Health

National Cancer Institute; Amended Notice of Meeting

Notice is hereby given of a change in the meeting of the National Cancer Institute Special Emphasis Panel, August 5, 2009, 8 a.m. to August 6, 2009, 5 p.m., Marriott Bethesda North Hotel and Conf. Ctr., Bethesda, MD which was published in the Federal Register on June 26, 2009, 74FR30592.

This notice is amended to change the title from “NCI-ARRA Grand Opportunities—Stem Cells” to “NCI-ARRA Grand Opportunities—Stem Cells/Cell Biology”. The meeting is closed to the public.

Dated: July 1, 2009.
Jennifer Spaeth,
Director, Office of Federal Advisory Committee Policy.

[FR Doc. E9-16098 Filed 7-8-09; 8:45 am]

BILLING CODE 4140-01-P